DEPARTMENT OF AGRICULTURE

Agricultural Marketing Service

7 CFR Part 205

[Doc. No. AMS-NOP-15-0012; NOP-15-06]

RIN 0581-AD44

National Organic Program (NOP); Organic Livestock and Poultry Practices Proposed Rule; Extension of Comment Period

AGENCY: Agricultural Marketing Service, USDA.

ACTION: Proposed rule; Extension of comment period.

SUMMARY: The Agricultural Marketing Service (AMS) published a proposed rule in the Federal Register on April 13, 2016 (71 FR 21956) on Organic Livestock and Poultry Practices. This document extends the comment period for the proposed rule for 30 days from June 13, 2016 to July 13, 2016. Multiple stakeholders requested that AMS extend the comment period due to the complexity and importance of the proposal. AMS is granting an extension.

DATES: All comments must be received on or before July 13, 2016.

ADDRESSES: Interested parties may submit written comments on the Organic Livestock and Poultry Practices proposed rule using one of the following methods:

• Federal eRulemaking Portal: http://www.regulations.gov. Follow the instructions for submitting comments.

• Mail: Paul Lewis Ph.D., Director Standards Division, National Organic Program, USDA-AMS-NOP, Room 2646-So., Ag Stop 0268, 1400 Independence Ave. SW., Washington, DC 20250-0268.

Instructions: All submissions received must include the docket number AMS-NOP-15-0012; NOP-15-06PR, and/or Regulatory Information Number (RIN) 0581-AD44 for this rulemaking. Commenters should identify the topic and section of the proposed rule to which their comment refers. All commenters should refer to the General Information section in the Notice of Proposed Rulemaking for more information on preparing your comments. All comments received will be posted without change to http://www.regulations.gov.

Docket: For access to the docket, including background documents and comments received, go to http://www.regulations.gov. Comments submitted in response to this proposed rule will also be available for viewing in person at USDA-AMS, National Organic Program, Room 2646-South Building, 1400 Independence Ave. SW., Washington, DC, from 9 a.m. to 12 noon and from 1 p.m. to 4 p.m., Monday through Friday (except official Federal holidays). Persons wanting to visit the USDA South Building to view comments received in response to this proposed rule are requested to make an appointment in advance by calling (202) 720-3252.

FOR FURTHER INFORMATION CONTACT: Paul Lewis, Ph.D., Director, Standards Division. Telephone: (202) 720-3252; Fax: (202) 260-9151.

SUPPLEMENTARY INFORMATION: This notice extends the public comment period provided in the proposed rule published in the Federal Register on April 13, 2016 (71 FR 21956) on Organic Livestock and Poultry Practices. In the proposed rule, AMS solicits public comments generally and requests comments on specific topics. AMS is extending the comment period, which was set to end on June 13, 2016, to July 13, 2016.

AMS is proposing to amend the organic livestock and poultry production requirements by: Adding new provisions for livestock handling and transport for slaughter and avian living conditions; and expanding and clarifying existing requirements covering livestock health care practices and mammalian living conditions.

To submit comments, or access the proposed rule docket, please follow the instructions provided under the ADDRESSES section. If you have questions, consult the person listed under FOR FURTHER INFORMATION CONTACT.

Authority: 7 U.S.C. 6501-6522.

Dated: June 2, 2016.
Elanor Starmer,
Administrator, Agricultural Marketing Service.

[FR Doc. 2016-13537 Filed 6-7-16; 8:45 am]

BILLING CODE P